DEPARTMENT OF HEALTH AND HUMAN SERVICES

Announcement of Anticipated Availability of Funds for Family Planning Services Grants

AGENCY: Department of Health and Human Services, Office of the Secretary, Office of Public Health and Science, Office of Population Affairs.

ACTION: Notice; correction.

SUMMARY: The Office of Population Affairs, OPHS, HHS published a notice in the Federal Register of Thursday, June 19, 2003, announcing the anticipated availability of funds for family planning services grants. This notice contained an error. One of the Populations/areas listed as available for competition was not available for competition in 2004. A correction notice was published in the Federal Register of Thursday, July 10, 2003. Since that time, the Population/area in question has become available for competition. This document reinstates the Population/area as competitive in 2004 and corrects the application due date and approximate grant funding date.

FOR FURTHER INFORMATION CONTACT: Susan B. Moskosky, 301-594-4008.

Correction

In the Federal Register of June 19, 2003, FR Doc. 03-15514, on page 36805, correct Table I to read:

Table I
States/Populations/areas to be served | Approximate: Funding available | Approximate: Application due date | Approx. grant funding date
Region I
Massachusetts—Central/Southeast | $1,468,500 | 09-01-03 | 01-01-04
Connecticut | 1,793,300 | 09-01-03 | 01-01-04
Vermont | 655,100 | 09-01-03 | 01-01-04
Maine | 1,368,300 | 09-01-03 | 01-01-04
Region II
Virgin Islands | 719,300 | 05-30-04 | 09-30-04
Region III
No competitive grants in 2004
Region IV
Florida, Miami, Dade County and Florida Keys | 525,300 | 05-30-04 | 09-30-04
Florida, Greater Orlando area (including Orange, Seminole, Osceola and Lake Counties) | 525,300 | 05-30-04 | 09-30-04
Region V
Illinois | 7,599,00 | 09-01-03 | 01-01-04
Wisconsin | 3,233,900 | 11-01-03 | 03-01-04
Michigan | 6,916,100 | 12-01-03 | 04-01-04
Ohio | 2,056,500 | 12-01-03 | 04-01-04
Illinois—Chicago Area | 200,250 | 05-30-04 | 09-30-04
Region VI
Texas | 11,074,00 | 12-01-03 | 04-01-04
Region VII
No competitive grants in 2004
Region VIII
Colorado | 2,887,200 | 09-01-03 | 01-01-04
North Dakota | 807,000 | 03-01-04 | 07-01-04
Utah | 1,084,000 | 03-01-04 | 07-01-04
Region IX
Northern Mariana Islands | 115,400 | 09-01-03 | 01-01-04
Arizona, Navajo Nation | 638,300 | 03-01-04 | 07-01-04
Samoa | 145,600 | 03-01-04 | 07-01-04
Nevada (excluding Washoe and Clark Counties) | 600,350 | 03-01-04 | 07-01-04
Republic of the Marshall Islands | 146,400 | 03-01-04 | 07-01-04
Region X
Washington | 3,616,000 | 09-01-03 | 01-01-04
Alaska, Municipality of Anchorage, Sitka Borough, Kenai Peninsula | 665,500 | 03-01-04 | 07-01-04
Washington, Seattle Area | 158,450 | 5-30-04 | 09-30-04

Dated: October 31, 2003.
Alma L. Golden,
Deputy Assistant Secretary for Population Affairs.

[FR Doc. 03-28198 Filed 11-7-03; 8:45 am]

BILLING CODE 4150-34-P